DEPARTMENT OF TRANSPORTATION

Research and Special Programs Administration

[Docket No. RSPA-98-4957]

Pipeline Safety: Revision of Natural Gas Distribution Incident and Annual Report Forms

AGENCY: Research and Special Programs Administration (RSPA), DOT.

ACTION: Notice and request for comments on revision of Information Collection OMB 2137-0522.

SUMMARY: In accordance with the Paperwork Reduction Act of 1995, RSPA's Office of Pipeline Safety (OPS) is publishing its intention to revise forms RSPA F 7100.1, Incident Report For Gas Distribution Systems, and RSPA F 7100.1-1, Annual Report For Gas Distribution Systems, and the Instructions for those forms. The purpose of this notice is to request public comment on the proposed changes in the forms and on the information collection burden.

DATES: Comments on this notice must be received on or before August 4, 2003.

ADDRESSES: You may submit written comments by mail or delivery to the Dockets Facility, U.S. Department of Transportation (DOT), Room PL-401, 400 Seventh Street, SW., Washington, DC 20590-0001. The Dockets facility is open from 10 a.m. to 5 p.m., Monday through Friday, except federal holidays. Comments should identify the docket number of this notice, RSPA-98-4957. You should submit the original and one copy. If you wish to receive confirmation of receipt of your comments, you must include a stamped, self-addressed postcard.

You may also submit or review comments electronically by accessing the Docket Management System's home page at http://dms.dot.gov. Click on “Help & Information” for instructions on how to file a document electronically. All written comments should identify the docket and notice numbers stated in the heading of this notice.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

The forms are available for review in Docket No. RSPA-98-4957.

FOR FURTHER INFORMATION CONTACT: Roger Little by telephone at 202-366-4569, by fax at 202-366-4566, by mail at DOT, RSPA, OPS 400 Seventh Street, SW., Room 7128, Washington, DC, 20590, or by e-mail at roger.little@rspa.dot.gov.

SUPPLEMENTARY INFORMATION: Background: RSPA/OPS collects information on distribution pipeline incidents as part of its efforts to minimize natural gas distribution pipeline failures. The revised forms request additional information concerning the characteristics of an operator's pipeline system. This information is needed to “normalize” incident information for safety trend analysis. The process of making elements of data comparable for comparison purposes (as in finding a common denominator, for example) is known as “normalizing” the data. The requirements for reporting incidents are found in 49 CFR part 191. The regulations require submission of the natural gas distribution annual report form by March 15 of each year for the preceding year's operations. Reports on distribution incidents must be submitted to RSPA/OPS in writing within 30 days of the incident's occurrence.

Natural gas distribution incident and annual reports are important tools for identifying safety trends in the gas pipeline industry. The National Transportation Safety Board (NTSB), DOT's Office of the Inspector General and General Accounting Office have urged RSPA/OPS to revise the information collected on the natural gas distribution pipeline incident and annual report forms.

NTSB Safety Recommendation P-96-1 urges RSPA/OPS to:

* * * develop within 1 year and implement within 2 years a comprehensive plan for the collection and use of gas and hazardous liquid pipeline accident data that details the type and extent of data to be collected, to provide the Research and Special Programs Administration with the capability to perform methodologically sound accident trend analyses and evaluations of pipeline operator performance using normalized accident data.

RSPA/OPS worked with representatives of the American Gas Association (AGA) to revise the natural gas distribution incident and annual report forms to make the information collected more useful to industry, government, and the public. RSPA/OPS also received suggestions for improvements from the National Association of Pipeline Safety Representatives, which represents state pipeline safety offices. State pipeline safety offices conduct safety inspections of natural gas distribution operators' records and facilities. They rely on report information for safety trending and inspection targeting.

The improvements to the natural gas distribution incident and annual report forms are necessary to address deficiencies in the current information collection. The form features more incident cause categories, impacts, failure mechanisms, locations, and other details about natural gas pipeline distribution incidents. The information derived from use of the form will make pipeline safety statistics more useful and more meaningful.

The proposed natural gas distribution operator annual report asks for pipeline mileage by decade installed. From 1970 through 1984, RSPA/OPS had a category for mileage by decade installed on the natural gas distribution operator annual report but the category was removed after the passage of the Paperwork Reduction Act.

Proposed Revision to Information Collection

Abstract: The forms to be revised are two of the four gas pipeline reporting forms authorized by Information Collection OMB 2137-0522, “Incident and Annual Reports for Gas Operators.” The proposed revisions represent the final phase of an ongoing process to revise all incident and annual reports. RSPA/OPS revised the natural gas transmission operator incident and annual report forms in 2001 for collection beginning in 2002.

The revisions proposed by this notice align cause categories for natural gas distribution incident reports with cause categories for natural gas transmission incident reports and hazardous liquid accident reports. The American Society of Mechanical Engineers (ASME) B31.4 committee, a hazardous liquid pipeline data group, has conducted annual studies of RSPA/OPS incident reports since the forms were last revised in 1984. The committee developed the cause categories for hazardous liquid pipeline accidents. RSPA/OPS has adopted the 22 categories for both hazardous liquid and natural gas transmission reports and added three other categories. RSPA/OPS proposes to adopt the ASME B31.4 committee's cause categories for all of the RSPA/OPS pipeline incident and accident report forms. The proposed revisions address the recommendations to improve pipeline safety information collection made by the NTSB, DOT's Office of Inspector General and General Accounting Office, and others.

RSPA/OPS needs this information for safety analysis and believes that the benefits of having the information outweigh the burden. For this reason, RSPA/OPS recently added the “mileage by decade” category to the natural gas transmission annual report (66 FR 23316; May 8, 2001.) On July 26, 2002, RSPA/OPS proposed to require hazardous liquid pipeline operators to submit “mileage by decade installed” information on a new hazardous liquid annual report (67 FR 48844; July 26, 2002.) Hazardous liquid pipeline operators were not previously required to submit annual reports. The collection of information on pipeline age addresses a widely acknowledged gap in pipeline safety information.

Title: Proposed Revisions to the Natural Gas Distribution Incident Report (RSPA F 7100.1) and the Annual Report For Gas Distribution Systems (RSPA F 7100.1-1).

OMB Number: 2137-0522.

Respondents: Gas distribution pipeline operators.

Estimated Number of Respondents: 1,200.

Estimated Total Annual Burden on Respondents: 15,120 hours.

The average number of burden hours per response is approximately 6 hours for the revised distribution incident report (approximately 75 fields × 5 minutes per field = approximately 6 hours per incident form) and 12 hours for the revised distribution annual report (approximately 150 fields × 5 minutes per field = approximately 12 hours per annual report form).

Estimated Number of Responses per Respondent per Year (average over the last ten years): Incident Reports: 0.08 (120 per year per 1,200 operators = .1); Annual Reports: 1.0.

The average number of burden hours per response is approximately 6 hours for the revised natural gas distribution system incident report form and 12 hours for the revised natural gas distribution system annual report form. For all 1,200 gas distribution pipeline operators the burden estimate is 720 hours (6 hours × 1,200 operators × 0.1 incidents) for incidents and 14,400 hours (12 hours × 1,200 operators × 1 annual report) for annual reports, for a total burden of 15,120 hours per annum.

(Authority: 49 U.S.C. 5103(b), 60102, 60104, 60117)

Issued in Washington, DC on May 30, 2003.
Stacey L. Gerard,
Associate Administrator for Pipeline Safety.

[FR Doc. 03-14159 Filed 6-4-03; 8:45 am]

BILLING CODE 4910-60-P